DEPARTMENT OF ENERGY

Federal Energy Regulatory Commission

[Project No. 12555-004]

Mahoning Creek Hydroelectric Company, LLC; Notice of Intent To Issue a Supplemental Environmental Assessment for the Proposed Mahoning Creek Hydroelectric Project

June 23, 2010.

On March 23, 2010, Commission staff issued an Environmental Assessment (EA) for the proposed Mahoning Creek Hydroelectric Project. On April 22, 2010, the U.S. Army Corps of Engineers, Pittsburgh District (Corps) filed comments on the EA. On June 17, 2010, Commission staff hosted a teleconference with the Corps to discuss their comments on the EA. Mahoning Creek Hydroelectric Company and the Pennsylvania Fish & Boat Commission also participated in the teleconference. In response to these activities, Commission staff intend to issue a supplemental EA that will address comments on the EA and provide additional clarification and analysis of several outstanding issues discussed during the teleconference.

Kimberly D. Bose,
Secretary.

[FR Doc. 2010-15842 Filed 6-29-10; 8:45 am]

BILLING CODE 6717-01-P